DEPARTMENT OF COMMERCE

International Trade Administration

U.S. Infrastructure Trade Mission to Colombia and Panama; Bogota, Columbia and Panama City, Panama, May 13-16, 2012; Correction

AGENCY: International Trade Administration, Department of Commerce.

ACTION: Notice; Correction.

SUMMARY: The United States Department of Commerce, International Trade Administration, U.S. and Foreign Commercial Service published a document in the Federal Register of December 4, 2012 regarding the U.S. Infrastructure Trade Mission to Colombia and Panama May 13-16, 2013. The subject heading of the document incorrectly indicated the year 2012 instead of 2013. All other information in the December 4, 2012 Notice, including the February 15, 2013 application deadline, is correct.

FOR FURTHER INFORMATION CONTACT: Arica N Young, Commercial Service Trade Missions Program, Tel: 202-482-6219, Fax: 202-482-9000, Email: arica.young@trade.gov; or Carlos Suarez, U.S. Commercial Service Colombia, Tel: 57-1-2752519, Email: carlos.suarez@trade.gov; or Enrique Tellez, U.S. Commercial Service Panama, Tel: 507-317-5080, Email: enrique.tellez@trade.gov.

Correction

In the Federal Register of December 4, 2012, in FR Doc. 2012-29306 on page 71778, first column, correct the subject heading of the notice to read: U.S. Infrastructure Trade Mission to Colombia and Panama; Bogota, Columbia and Panama City, Panama, May 13-16, 2013.

Dated: December 13, 2012
Elnora Moye,
Trade Program Assistant.

[FR Doc. 2012-31426 Filed 12-28-12; 8:45 am]

BILLING CODE 3510-FP-P